OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, (202) 606-2246.

SUPPLEMENTARY INFORMATION: Appearing in the listing below are the individual authorities established under Schedules A, B, and C between October 1, 2011, and October 31, 2011. These notices are published monthly in the Federal Register at http://www.gpoaccess.gov/ fr/. A consolidated listing of all authorities as of September 30 is also published each year. The following Schedules are not codified in the Code of Federal Regulations. These are agency-specific exceptions.

Schedule A

No Schedule A authorities to report during October 2011.

Schedule B

No Schedule B authorities to report during October 2011.

Schedule C

The following Schedule C appointments were approved during October 2011.

Agency name | Organization name | Position title | Authorization number | Effective date
DEPARTMENT OF AGRICULTURE | Risk Management Agency | Confidential Assistant | DA110137 | 10/3/2011
| Office of the Assistant Secretary for Congressional Relations | Confidential Assistant | DA120006 | 10/25/2011
| Natural Resources Conservation Service | Assistant Chief | DA120007 | 10/26/2011
DEPARTMENT OF COMMERCE | Office of the Assistant Secretary for Economic Development | Senior Advisor | DC110135 | 10/7/2011
| Office of the Deputy Secretary | Special Assistant | DC120003 | 10/17/2011
| Office of the Chief of Staff | Executive Assistant | DC120005 | 10/21/2011
DEPARTMENT OF DEFENSE | Office of the Assistant Secretary of Defense (International Security Affairs) | Special Assistant (International Security Affairs) | DD110133 | 10/25/2011
| Office of Assistant Secretary of Defense (Public Affairs) | Speechwriter | DD110134 | 10/21/2011
| Office of the Secretary of Defense | Deputy White House Liaison | DD120001 | 10/13/2011
| Office of the Assistant Secretary of Defense (Global Strategic Affairs) | Special Assistant (Global Strategic Affairs) | DD120005 | 10/25/2011
DEPARTMENT OF EDUCATION | Office of Elementary and Secondary Education | Deputy Assistant Secretary for Policy and School Turnaround | DB120003 | 10/18/2011
| Office of Legislation and Congressional Affairs | Confidential Assistant | DB120007 | 10/25/2011
| Office of Communications and Outreach | Confidential Assistant | DB120008 | 10/20/2011
DEPARTMENT OF ENERGY | Assistant Secretary for Congressional and Intergovernmental Affairs | Legislative Affairs Specialist | DE110148 | 10/6/2011
| Office of Management | Deputy Director of Scheduling and Advance | DE120005 | 10/25/2011
| National Nuclear Security Administration | Special Assistant | DE120009 | 10/25/2011
| Office of Public Affairs | New Media Specialist | DE120013 | 10/21/2011
DEPARTMENT OF HEALTH AND HUMAN SERVICES | Office of Intergovernmental and External Affairs | Regional Director, Chicago, Illinois-Region V | DH110135 | 10/4/2011
| Office of the Secretary | Deputy Director for Scheduling and Advance | DH110140 | 10/21/2011
DEPARTMENT OF HOMELAND SECURITY | Federal Emergency Management Agency | Senior Advisor | DM110274 | 10/11/2011
| Office of the Assistant Secretary for Policy | Deputy Executive Director | DM110275 | 10/11/2011
| U.S. Customs and Border Protection | Policy Advisor | DM120004 | 10/17/2011
| Office of the Assistant Secretary for Policy | Director | DM120007 | 10/21/2011
DEPARTMENT OF THE INTERIOR | Secretary's Immediate Office | Senior Advisor | DI110087 | 10/3/2011
| Assistant Secretary—Indian Affairs | Senior Advisor-Indian Affairs | DI110090 | 10/3/2011
| Secretary's Immediate Office | Communications Advisor | DI110094 | 10/6/2011
| Bureau of Ocean Energy Management | Science Advisor | DI110097 | 10/4/2011
| Bureau of Safety and Environmental Enforcement | Special Assistant | DI110098 | 10/4/2011
| Office of the Deputy Secretary | Advisor | DI120001 | 10/12/2011
| Bureau of Ocean Energy Management | Senior Advisor | DI120003 | 10/6/2011
| Bureau of Ocean Energy Management | Special Assistant | DI120007 | 10/20/2011
DEPARTMENT OF JUSTICE | Office of Public Affairs | Press Assistant | DJ110121 | 10/6/2011
| Office of Public Affairs | Confidential Assistant | DJ120003 | 10/17/2011
DEPARTMENT OF LABOR | Office of the Secretary | Special Assistant | DL120001 | 10/6/2011
| Office of the Secretary | Policy Advisor | DL120002 | 10/14/2011
| Office of the Assistant Secretary for Administration and Management | Special Assistant | DL120003 | 10/14/2011
NATIONAL AERONAUTICS AND SPACE ADMINISTRATION | Office of General Counsel | Special Assistant | NN120002 | 10/7/2011
NATIONAL MEDIATION BOARD | National Mediation Board | Confidential Assistant | NM120001 | 10/11/2011
SMALL BUSINESS ADMINISTRATION | Office of Field Operations | Senior Advisor for Field Operations | SB120002 | 10/19/2011
| Office of the Administrator | Policy Advisor | SB120003 | 10/19/2011
DEPARTMENT OF STATE | Bureau of Arms Control, Verification, and Compliance | Public Affairs Specialist | DS110112 | 10/4/2011
| Office of the Deputy Secretary for Management and Resources | Senior Advisor | DS110135 | 10/14/2011
DEPARTMENT OF TRANSPORTATION | Assistant Secretary for Governmental Affairs | Deputy Assistant Secretary for Governmental Affairs | DT120002 | 10/7/2011

Authority: 5 U.S.C. 3301 and 3302; E.O. 10577, 3 CFR parts 1954-1958 Comp., p. 218.

U.S. Office of Personnel Management.
John Berry, Director.

[FR Doc. 2011-32285 Filed 12-15-11; 8:45 am]

BILLING CODE 6325-39-P